DEPARTMENT OF TRANSPORTATION

Federal Aviation Administration

[Docket No. FAA-2020-1056]

Agency Information Collection Activities: Requests for Comments; Clearance of a New Approval of Information Collection: Unmanned Aircraft Systems (UAS) Market Survey

AGENCY: Federal Aviation Administration (FAA), DOT.

ACTION: Notice and request for comments.

SUMMARY: In accordance with the Paperwork Reduction Act of 1995, FAA invites public comments about our intention to request the Office of Management and Budget (OMB) approval for a new information collection. The Federal Register Notice with a 60-day comment period soliciting comments on the following collection of information was published on November 17, 2020. The collection involves an electronic distribution of a survey to gather information on current practices for pilots of unmanned aircraft systems (UAS). The target information to be gathered is the common fatigue-related practices, and the minimum knowledge, skills, abilities (KSAs), testing, and staffing procedures required for operating UAS. The information to be collected will be used to inform future rulemaking and the development of supporting guidance. The information is necessary because the existing regulatory framework, to include the certification of airmen, was not designed with remote pilots in mind. To broadly integrate UAS and remote pilots into the National Airspace System, further rulemaking will be required to address remote pilot certification for air carrier operations and flight and duty time periods applicable to remote pilot air carrier operations.

DATES: Written comments should be submitted by February 25, 2021.

ADDRESSES: Please send written comments:

By Electronic Docket: https://www.regulations.gov (Enter docket number into search field).

By mail: Kevin Williams, Ph.D., Bldg. 13, Rm. 250D, 6500 S MacArthur Blvd., Oklahoma City, OK 73125.

By fax: (405) 954-4852.

FOR FURTHER INFORMATION CONTACT: Ashley Awwad by email at: ashley.awwad@faa.gov; phone: (816) 786-5716.

SUPPLEMENTARY INFORMATION:

Public Comments Invited: You are asked to comment on any aspect of this information collection, including: (a) Whether the proposed collection of information is necessary for FAA's performance; (b) the accuracy of the estimated burden; (c) ways for FAA to enhance the quality, utility and clarity of the information collection; and (d) ways that the burden could be minimized without reducing the quality of the collected information.

OMB Control Number: 2120-XXXX.

Title: Unmanned Aircraft Systems (UAS) Market Survey.

Form Numbers: There are no forms associated with this collection.

Type of Review: New information collection.

Background: The FAA published a Notice in the Federal Register on November 17, 2020, seeking comment for a period of 60-days on its intent to conduct a UAS market survey that would collect information pertaining to UAS air carrier-like operations (85 FR 73334). The FAA received supporting comments from four organizations: Airlines for America, Small UAV Coalition, Helicopter Association International (HAI), and the National Agricultural Aviation Association (NAAA).

HAI believes this collection is a valuable opportunity and will be an effective source of information to inform FAA. NAAA commented that it is vital that a safe, low-altitude airspace exist for all users and advocates for pilots of UAS operations to hold a pilot certificate. NAAA added that the proposed collection would support establishing the minimum knowledge, skills, abilities, testing, and staffing procedures required for operating UAS. Similarly, the Small UAV Coalition supports the proposed collection recognizing the benefits of establishing minimum requirements in terms of aeronautical knowledge and in-flight practical training and testing for remote pilots conducting air carrier operations and suggests adjustments are necessary from existing remote pilot certificate requirements for operations conducted under 14 CFR part 107.

Three of these commenters included recommendations for who should be eligible to respond to the survey. HAI suggested the FAA seek responses from the broadest possible cross-section of operations. HAI noted that many legacy rotorcraft organizations conducting a wide variety of operations have integrated UAS into their operations with more expected to follow. Data gathered from persons with experience in both manned and unmanned operations could be valuable. NAAA recommended that respondents include pilots with manned aircraft experience in operating around UAS, specifically those that normally conduct operations in low-altitude environments, though not necessarily experienced in flying unmanned aircraft.

The FAA agrees that information from a broad cross-section of the aviation industry is important in gathering the data it seeks with this collection. The survey is designed such that respondents can indicate which area of the industry they represent. This will aid in understanding the more specific information gathered in the survey regarding knowledge, skill, training, testing, and fatigue-related policies and procedures. The FAA has specifically included some of the recommended industries of agriculture, infrastructure, and emergency response. If a respondent's industry is not part of the generated listed, they will have the opportunity to write it in. Because of the UAS-specific information and experience we are seeking, we are requiring that the respondents have some kind of work-related experience with unmanned aircraft or that their organization currently operates or plans to operate unmanned aircraft commercially.

The Small UAV Coalition noted in its comments that the FAA did not explain how it arrived at the estimate of 180 respondents. The Small UAV Coalition believes the survey should include Part 107 waiver holders because of the experience they have in complex UAS operations, particularly those beyond the line of sight of the remote pilot.

The FAA arrived at the estimate of 180 respondents due to both statistical reasons and prior experience with survey data collections. The requirement for 180 respondents represents a sufficient amount needed to draw reliable and valid conclusions from the data while reducing the American public's paperwork burden as much as possible. Exceeding this number will not be problematic from a statistical viewpoint, and given that the survey is being distributed electronically, should not be a problem from a paperwork burden viewpoint as well. The FAA has generated a list of potential respondents to invite for participation, which helped to estimate the potential number. However, the number of respondents is not limited to only those on that list. The survey link can be forwarded or made available to others. Acknowledging the comments received regarding distribution and who it should include, the FAA will provide the survey link to NAAA, HAI, and the Small UAV Coalition by means of an invitational email. Enclosed in the invitational email is a survey link that states, “You may forward this survey to your colleagues and peers who meet this criteria, even if you do not.” Thus, these organizations can then email the survey invitation to their membership as they deem appropriate given the information the FAA has provided. Due to privacy concerns, the FAA will neither share nor accept participant contact lists but will encourage the organization to share the survey link with individuals who meet the survey criteria.

The Small UAV Coalition also suggested that the academic experts should include those “who have examined how fatigue may occur while a human operates a machine with increasing levels of autonomy as well as complexity in tasks” noting that these experts may not have experience with UAS operations, but their information may be valuable.

The FAA appreciates the suggestion and agrees that the fatigue information recommended would be valuable but such information exceeds the scope of the survey. The FAA has other research tasks that better capture this type of fatigue information. This particular survey is seeking operation-specific details and policies that organizations may have concerning time on duty in relationship to tasks, and other fatigue-related policies. As noted previously, this survey would not prevent someone with that kind of expertise from responding, but the questions are not designed to capture other research that is available.

Respondents: 180 respondents.

Frequency: One-time collection.

Estimated Average Burden per Response: 45-minute burden per response.

Estimated Total Annual Burden: 135 hours, total burden.

Issued in Oklahoma City, OK, on January 21, 2021.
Ashley Awwad,
Management and Program Analyst, FAA Aviation Safety, Civil Aerospace Medical Institute, Flight Deck Human Factors Research Lab (AAM-510).

[FR Doc. 2021-01686 Filed 1-25-21; 8:45 am]

BILLING CODE 4910-13-P